DEPARTMENT OF TRANSPORTATION

National Highway Traffic Safety Administration

[Docket No. NHTSA-2005-21912]

Decision That Certain Nonconforming Motor Vehicles Are Eligible for Importation

AGENCY: National Highway Traffic Safety Administration (NHTSA), DOT.

ACTION: Notice of decision by NHTSA that certain nonconforming motor vehicles are eligible for importation.

SUMMARY: This document announces decisions by NHTSA that certain motor vehicles not originally manufactured to comply with all applicable Federal motor vehicle safety standards are eligible for importation into the United States because they are substantially similar to vehicles originally manufactured for importation into and/or sale in the United States and certified by their manufacturers as complying with the safety standards, and they are capable of being readily altered to conform to the standards or because they have safety features that comply with, or are capable of being altered to comply with, all applicable Federal motor vehicle safety standards.

DATES: These decisions became effective on the dates specified in Annex A.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No substantive comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA hereby decides that each motor vehicle listed in Annex A to this notice, which was not originally manufactured to comply with all applicable Federal motor vehicle safety standards, is either (1) substantially similar to a motor vehicle manufactured for importation into and/or sale in the United States, and certified under 49 U.S.C. 30115, as specified in Annex A, and is capable of being readily altered to conform to all applicable Federal motor vehicle safety standards or (2) has safety features that comply with, or are capable of being altered to comply with, all applicable Federal motor vehicle safety standards.

Authority: 49 U.S.C. 30141(a)(1)(A), (a)(1)(B) and (b)(1); 49 CFR 593.8; delegations of authority at 49 CFR 1.50 and 501.8.

Claude H. Harris,
Director, Office of Vehicle Safety Compliance.

Annex A—Nonconforming Motor Vehicles Decided to be Eligible for Importation

1. Docket No. NHTSA-2005-20489:

Nonconforming Vehicles: 2004-4005 Porsche Carrera GT Passenger Cars.

Substantially Similar U.S.—Certified Vehicles: 2004-4005 Porsche Carrera GT Passenger Cars.

Notice of Petition Published at: 70 FR 11308 (March 8, 2005).

Vehicle Eligibility Number: VSP-463 (effective date April 15, 2005).

2. Docket No. NHTSA-2005-20649:

Nonconforming Vehicles: 2003-2004 Porsche Cayenne Multipurpose Passenger Vehicles.

Substantially Similar U.S.—Certified Vehicles: 2003-2004 Porsche Cayenne Multipurpose Passenger Vehicles.

Notice of Petition Published at: 70 FR 13229 (March 18, 2005).

Vehicle Eligibility Number: VSP-464 (effective date April 26, 2005).

3. Docket No. NHTSA-2005-20645:

Nonconforming Vehicles: 1981 BMW R100 Motorcycles.

Substantially Similar U.S.—Certified Vehicles: 1981 BMW R100 Motorcycles.

Notice of Petition Published at: 70 FR 13230 (March 18, 2005).

Vehicle Eligibility Number: VSP-465 (effective date April 26, 2005).

4. Docket No. NHTSA-2005-20663:

Nonconforming Vehicles: 2002 Jeep Liberty Multipurpose Passenger Vehicles.

Substantially Similar U.S.—Certified Vehicles: 2002 Jeep Liberty Multipurpose Passenger Vehicles.

Notice of Petition Published at: 70 FR 14749 (March 23, 2005).

Vehicle Eligibility Number: VSP-466 (effective date May 4, 2005).

5. Docket No. NHTSA-2005-20686:

Nonconforming Vehicles: 1989 Volkswagen Golf Rallye Passenger Cars.

Substantially Similar U.S.—Certified Vehicles: 1989 Volkswagen Golf Rallye Passenger Cars.

Notice of Petition Published at: 70 FR 14751 (March 23, 2005).

Vehicle Eligibility Number: VSP-467 (effective date May 4, 2005).

6. Docket No. NHTSA-2005-21011:

Nonconforming Vehicles: 2001-2005 Mercedes Benz Sprinter Trucks.

Substantially Similar U.S.—Certified Vehicles: 2001-2005 Mercedes Benz Sprinter Trucks.

Notice of Petition Published at: 70 FR 20798 (April 21, 2005).

Vehicle Eligibility Number: VSP-468 (effective date June 15, 2005).

7. Docket No. NHTSA-2005-21263:

Nonconforming Vehicles: 1991 Mercedes Benz 560 SEL Passenger Cars.

Substantially Similar U.S.—Certified Vehicles: 1991 Mercedes Benz 560 SEL Passenger Cars.

Notice of Petition Published at: 70 FR 30182 (May 25, 2005).

Vehicle Eligibility Number: VSP-469 (effective date July 6, 2005).

8. Docket No. NHTSA-2005-21010:

Nonconforming Vehicles: 2002-2003 Hobby Wohnwagenwerk Exclusive 650 KMFE Trailers.

Because there are no substantially similar U.S.-certified versions of the 2002-2003 Hobby Wohnwagenwerk Exclusive 650 KMFE Trailers, the petitioner sought import eligibility under 49 U.S.C. 30141(a)(1)(B).

Notice of Petition Published at: 70 FR 20797 (April 21, 2005).

Vehicle Eligibility Number: VCP-29 (effective date June 15, 2005).

9. Docket No. NHTSA-2005-21334:

Nonconforming Vehicles: 2005 Smart Car Fortwo Coupe & Cabriolet, (including trim levels Passion, Pulse and Pure) Passenger Cars.

Because there are no substantially similar U.S.-certified versions of the 2005 Smart Car Fortwo Coupe & Cabriolet, (including trim levels Passion, Pulse and Pure) Passenger Cars, the petitioner sought import eligibility under 49 U.S.C. 30141(a)(1)(B).

Notice of Petition Published at: 70 FR 32701 (June 3, 2005).

Vehicle Eligibility Number: VCP-30 (effective date July 14, 2005).

[FR Doc. 05-14974 Filed 7-28-05; 8:45 am]

BILLING CODE 4910-59-P